DEPARTMENT OF HOMELAND SECURITY

Coast Guard

[Docket No. USCG-2008-0187]

National Maritime Security Advisory Committee; Meeting

AGENCY: Coast Guard, DHS.

ACTION: Notice of meeting.

SUMMARY: The National Maritime Security Advisory Committee (NMSAC) will meet in Portsmouth, VA to discuss various issues relating to national maritime security. This meeting will be open to the public.

DATES: The Committee will meet on Wednesday, April 16, 2008 from 9 a.m. to 4 p.m. This meeting may close early if all business is finished. Written material and requests to make oral presentations should reach the Coast Guard on or before April 1, 2008. Requests to have a copy of your material distributed to each member of the committee should reach the Coast Guard on or before April 1, 2008.

ADDRESSES: The Committee will meet at the Renaissance Portsmouth Hotel and Waterfront Conference Center, Portsmouth Ballroom #4, 425 Water Street, Portsmouth, VA. Send written material and requests to make oral presentations to Captain Mark O'Malley, Commandant (CG-544), Executive Director of NMSAC, U.S. Coast Guard Headquarters, Room 5302, 2100 2nd Street, SW., Washington, DC 20593-0001. This notice may be viewed in our online docket, USCG-2008-0187 at http://www.regulations.gov.

FOR FURTHER INFORMATION CONTACT: Mr. Ryan Owens, Assistant to DFO of NMSAC, telephone 202-372-1108.

SUPPLEMENTARY INFORMATION: Notice of this meeting is given under the Federal Advisory Committee Act, 5 U.S.C. App. (Pub. L. 92-463).

Agenda of Meeting

The agenda for the April 16, 2008 Committee meeting is as follows:

(1) Presentation and Discussion of the Future Policy Issues Task Statement.

(2) Presentation and Discussion of the Maritime Transportation Security User Fee Study Task Statement.

(3) Report on the Status of the TWIC Program.

(4) Briefing and Discussion on the Port Security Grant Program.

(5) Briefing and Discussion on the National Strategy for Small Vessel Security.

(6) Briefing and Discussion on the National Concept of Operations for Maritime Domain Awareness (Tentative).

(7) Briefing and Discussion of the Long Range Identification and Tracking (LRIT) system.

Procedural

This meeting is open to the public. Please note that the meeting may close early if all business is finished. At the Chair's discretion, members of the public may make oral presentations during the meeting. If you would like to make an oral presentation at a meeting, please notify the DFO no later than April 1, 2008. Written material for distribution at a meeting should reach the Coast Guard no later than April 1, 2008. If you would like a copy of your material distributed to each member of the committee in advance of a meeting, please submit 25 copies to the DFO no later than April 1, 2008.

Information on Services for Individuals With Disabilities

For information on facilities or services for individuals with disabilities or to request special assistance at the meeting, contact the DFO as soon as possible.

Dated: March 13, 2008.
M.P. O'Malley,
Captain, U.S. Coast Guard, Chief, Office of Port and Facility Activities, Designated Federal Official, NMSAC.

[FR Doc. E8-6145 Filed 3-25-08; 8:45 am]

BILLING CODE 4910-15-P